Proclamation 8483 of March 5, 2010

Save Your Vision Week, 2010

By the President of the United States of America

A Proclamation

While many Americans are fortunate to have healthy eyes, millions are affected by low vision or blindness. Maintaining good vision requires early diagnosis and timely treatment of eye conditions. Save Your Vision Week is a time for all Americans to take action to protect their sight.

Vision loss affects everyone, from infants with genetic conditions, to teens and adults with refractive errors, to older individuals with cataracts and other age-related eye diseases. Through recent studies, scientists and clinicians have identified risk factors, early detection methods, and new treatments for many eye conditions, but individuals can also take steps to protect their own vision.

By getting regular eye examinations, Americans can take advantage of medical breakthroughs that allow early detection and treatment of vision loss. Doctors also recommend maintaining a healthy diet, not smoking, and wearing sunglasses or suitable eye protection when playing sports or performing household chores and yard work. This week, I encourage all Americans to visit the National Eye Institute website at www.NEI.NIH.gov to find eye care professionals in communities across our country and to access the latest eye health information.

To remind Americans about the importance of safeguarding their eyesight, the United States Congress, by joint resolution approved December 30, 1963, as amended (77 Stat. 629; 36 U.S.C. 138), has authorized and requested the President to proclaim the first week in March of each year as “Save Your Vision Week.”

NOW, THEREFORE, I, BARACK OBAMA, President of the United States of America, do hereby proclaim March 7 through March 13, 2010, as Save Your Vision Week. During this time, I invite eye care professionals, teachers, members of the media, and all organizations dedicated to preserving eyesight to join in activities that will raise awareness of eye and vision health.

IN WITNESS WHEREOF, I have hereunto set my hand this fifth day of March, in the year of our Lord two thousand ten, and of the Independence of the United States of America the two hundred and thirty-fourth.

[FR Doc. 2010-5292

Filed 3-9-10; 8:45 am]

Billing code 3195-W0-P